LIBRARY OF CONGRESS

Copyright Royalty Board

[Docket No. 15-0008-CRB-SATR (2015-19)]

Determination of Royalty Rates for Secondary Transmissions of Broadcasts by Satellite Carriers and Distributors

AGENCY: Copyright Royalty Board, Library of Congress.

ACTION: Notice of Commencement of Proceeding and Solicitation of Petitions to Participate.

SUMMARY: The Copyright Royalty Judges (Judges) announce commencement of a proceeding to determine rates for the satellite carrier statutory license described in section 119 of the Copyright Act for the license period January 1, 2015, through December 31, 2019.

DATES: Effective Date: March 30, 2015.

Applicability Dates: These regulations apply to the license period January 1, 2015, to December 31, 2019.

ADDRESSES: This notice and request is also posted on the agency's Web site (www.loc.gov/crb) and on Regulations.gov (www.regulations.gov). Parties who plan to participate should see How to Submit Petitions to Participate in the Supplementary Information section below for physical addresses and further instructions.

FOR FURTHER INFORMATION CONTACT: Richard Strasser, Senior Attorney, or Kimberly Whittle, Attorney Advisor, by telephone at (202) 707-7658 or email at crb@loc.gov.

SUPPLEMENTARY INFORMATION: On December 4, 2014, Congress passed the STELA Reauthorization Act of 2014. Public Law 113-200. The provisions of the reauthorization act extend the satellite carrier statutory license provisions of the Copyright Act (Act) to December 31, 2019. See 17 U.S.C. 119(a). Pursuant to 17 U.S.C. 119(c)(1)(F), the Judges announce initiation of a proceeding to be conducted under chapter 8 of the Act. Entities wishing to participate in the rate-setting period must file a Petition to Participate and pay the $150 filing fee.

After receiving all Petitions to Participate, the Judges will give notice to all parties in interest and commence the Voluntary Negotiation Period, during which affected parties may agree on acceptable, applicable rates. If the parties agree, the Judges will give public notice of the agreed rates and consider comments in response to the notice. Once the rates are established, they may be subject to an annual cost-of-living adjustment under 17 U.S.C. 119(c)(2).¹

¹ The Judges did not give notice of a rate adjustment for 2015 because of the sunset provision relating to the statutory satellite retransmission license. See 17 U.S.C. 119 (c)(1)(E). With the STELA Reauthorization Act in place, the Judges now initiate this proceeding to determine rates for the period 2015 to 2019, inclusive.

Petitions To Participate

Parties filing petitions to participate must comply with the requirements of section 351.1(b) of the copyright royalty board's regulations. 37 CFR 351.1(b).

How To Submit Petitions To Participate:

Any party wishing to participate in the proceeding to determine satellite royalty rates for 2015 through 2019 shall submit to the Copyright Royalty Board the filing fee (US $150), an original Petition to Participate, five paper copies, and an electronic copy in Portable Document Format (PDF) that contains searchable, accessible text (not an image) on a CD or other portable memory device to only one of the following addresses.

U.S. mail: Copyright Royalty Board, P.O. Box 70977, Washington, DC 20024-0977; or

Overnight service (only USPS Express Mail is acceptable): Copyright Royalty Board, P.O. Box 70977, Washington, DC 20024-0977; or

Commercial courier: Address package to: Copyright Royalty Board, Library of Congress, James Madison Memorial Building, LM-403, 101 Independence Avenue SE., Washington, DC 20559-6000. Deliver to: Congressional Courier Acceptance Site, 2nd Street NE and D Street NE., Washington, DC; or

Hand delivery: Library of Congress, James Madison Memorial Building, LM-401, 101 Independence Avenue SE., Washington, DC 20559-6000.

Participants should conform filed electronic documents to the Judges' Guidelines for Electronic Documents, available online at www.loc.gov/crb/docs/Guidelinesfor_Electronic_Documents.pdf.

Dated: March 24, 2015.
Suzanne M. Barnett,
Chief Copyright Royalty Judges.

[FR Doc. 2015-07107 Filed 3-27-15; 8:45 am]

BILLING CODE 1410-72-P